DEPARTMENT OF EDUCATION

Notice of Membership of the Performance Review Board

AGENCY: Office of Management, Department of Education.

ACTION: Notice; correction.

SUMMARY: On August 30, 2012, the Office of Management in the U.S. Department of Education published in the Federal Register (77 FR 52707) a notice announcing the members of the Performance Review Board (PRB) for the Department of Education for the Senior Executive Service (SES) (August PRB notice). Under 5 U.S.C. 4314(c)(1) through (c)(5), each agency is required to establish one or more PRBs. This notice corrects the list of members included in the August PRB notice.

DATES: Effective November 6, 2012.

SUPPLEMENTARY INFORMATION: On page 52707 of the PRB notice, in the third column, we correct the paragraph under the heading Membership to read:

The Secretary has selected the following executives of the Department of Education for the specified SES performance cycle: Sue Betka, Danny Harris, Larry Kean, Teresa Garland, Brenda Dann-Messier, John (Jay) Hurt, Kathleen Styles, and Gabriella Gomez.

FOR FURTHER INFORMATION CONTACT: Andrea Burckman, Director, Executive Resources Division, Human Capital and Client Services, Office of Management, U.S. Department of Education, 400 Maryland Avenue SW., Room 2C150, LBJ, Washington, DC 20202-4573. Telephone: (202) 401-0853.

If you use a telecommunications device for the deaf (TDD) or text telephone (TTY), call the Federal Relay Service (FRS) at 1-800-877-8339.

Individuals with disabilities can obtain this document in an accessible format (e.g., braille, large print, audiotape, or compact disc) on request to the contact person listed under For Further Information Contact.

Electronic Access to This Document: The official version of this document is the document published in the Federal Register. Free Internet access to the official edition of the Federal Register and the Code of Federal Regulations is available via the Federal Digital System at: www.gpo.gov/fdsys. At this site you can view this document, as well as all other documents of this Department of Education (Department) published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: October 31, 2012.
Arne Duncan,
Secretary of Education.

[FR Doc. 2012-26983 Filed 11-5-12; 8:45 am]

BILLING CODE 4000-01-P